INTERNATIONAL TRADE COMMISSION

[Investigation No. 337-TA-1141]

Certain Cartridges for Electronic Nicotine Delivery Systems and Components Thereof; Commission Determination Not To Review an Initial Determination To Amend the Complaint and Notice of Investigation To Correct the Name of a Corporate Respondent

AGENCY: U.S. International Trade Commission.

ACTION: Notice.

SUMMARY: Notice is hereby given that the U.S. International Trade Commission (the “Commission”) has determined not to review an initial determination (“ID”) (Order No. 29) to amend the complaint and notice of investigation to correct the name of a corporate respondent.

FOR FURTHER INFORMATION CONTACT: Carl P. Bretscher, Office of the General Counsel, U.S. International Trade Commission, 500 E Street SW, Washington, DC 20436, telephone (202) 205-2382. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's Electronic Docket Information System (“EDIS”) (https://edis.usitc.gov). Hearing-impaired persons are advised that information on this matter can be obtained by contacting the Commission's TDD terminal, telephone (202) 205-1810.

SUPPLEMENTARY INFORMATION: On December 27, 2018, the Commission instituted the present investigation based on a complaint filed by Juul Labs, Inc. (“Juul”) of San Francisco, California. 83 FR 66756 (Dec. 27, 2018). The complaint alleges a violation of 19 U.S.C. 1337, as amended (“Section 337”), in the importation, sale for importation, and sale in the United States after importation of certain cartridges used in electronic nicotine delivery systems and components thereof that allegedly infringe one or more of the asserted claims of U.S. Patent Nos. 10,058,129; 10,104,915; 10,111,470; 10,117,465; and 10,117,466. Id. The notice of investigation named twenty-three (23) respondents, including Ziip Lab Co., Ltd. (“Ziip”) of Shenzhen City, Guangdong Province, China. The Office of Unfair Import Investigations was also named as a party. Id.

A number of respondents have already been terminated from this investigation pursuant to consent orders or settlement. See Order No. 26 (not rev'd, Comm'n Notice (May 31, 2019)); Order No. 25 (not rev'd, Comm'n Notice (May 15, 2019)); Order Nos. 19-21 (not rev'd, Comm'n Notice (May 7, 2019)); Order Nos. 15, 16 (not rev'd, Comm'n Notice (Mar. 26, 2019)); Order Nos. 13, 14 (not rev'd, Comm'n Notice (Mar. 26, 2019)).

On May 9, 2019, Juul and Ziip filed a joint motion to amend the complaint and notice of investigation to correct the name of Ziip Lab Co., Ltd., which is an alias, to SS Group Holdings, which is the respondent's correct legal name. None of the parties opposed the joint motion.

On May 15, 2019, the presiding administrative law judge issued the subject ID (Order No. 29) granting the joint motion to amend the complaint and notice of investigation to reflect the correct legal name of SS Group Holdings.

No party filed a petition to review the subject ID. The Commission has determined not to review the subject ID.

The authority for the Commission's determination is contained in Section 337 of the Tariff Act of 1930, as amended (19 U.S.C. 1337), and in part 210 of the Commission's Rules of Practice and Procedure (19 CFR part 210).

By order of the Commission.
Issued: June 12, 2019.
Lisa Barton,
Secretary to the Commission.

[FR Doc. 2019-12758 Filed 6-14-19; 8:45 am]

BILLING CODE 7020-02-P